DEPARTMENT OF THE INTERIOR

Bureau of Land Management

[LLNMF0100 L5874000.EU, LXSS041G0000; NMNM 121548]

Notice of Realty Action: Modified Competitive Sealed Bid Sale of Public Lands in Rio Arriba County, NM

AGENCY: Bureau of Land Management, Interior.

ACTION: Notice of realty action.

SUMMARY: The Bureau of Land Management (BLM) proposes to offer, by modified competitive sealed bid sale, one parcel of land totaling approximately 160 acres in Lindrith, New Mexico. The sale parcel will be subject to the applicable provisions of the Federal Land Policy and Management Act of 1976. The land is not needed for any Federal purpose and would be sold for not less than Fair Market Value (FMV), currently appraised to be $96,000.

DATES: Comments regarding the proposed sale or the Environmental Assessment (EA) will be accepted until October 25, 2010. Sealed bids for the sale must be post-marked and received by the BLM no later than 4:30 p.m., Mountain Standard Time (MST), on November 8, 2010 at the BLM Farmington Field Office.

ADDRESSES: Written comments and sealed bids should be mailed to the BLM Field Manager, Farmington Field Office, 1235 La Plata Highway, Suite A, Farmington, New Mexico 87401.

FOR FURTHER INFORMATION CONTACT: Albert Gonzales, e-mail: Albert_Gonzales@blm.gov or by phone at (505) 599-6334.

SUPPLEMENTARY INFORMATION: The following land is located northeast of Cuba in Lindrith, New Mexico, and is described as:

New Mexico Principal Meridian

T. 26 N., R. 2 W.,

sec. 17, NE¼.

The area described contains 160 acres, more or less, in Rio Arriba County.

The sale is in conformance with the BLM Farmington Resource Management Plan (RMP) approved on October 5, 1998. The BLM has determined that the proposed action conforms to the land use plan decision, LD-1, in the RMP.

The use of the modified competitive sale method for this sale is consistent with 43 CFR 2711.3-2(a)(1)(i).

To participate in this modified competitive sale, each bidder, including the designated bidders, must submit a $20,000 bid guarantee deposited by a certified check, postal money order, bank draft, or cashier's check made payable to the Bureau of Land Management. Sealed bids for this sale must be accompanied by a certified check, postal money order, bank draft, or cashier's check made payable to the Bureau of Land Management, in an amount not less than 20 percent of the total bid amount. The bid guarantee and sealed bid amounts may be submitted in one form of deposit but must be specified. Personal checks will not be accepted. Sealed bid envelopes must be clearly marked on the front lower left corner with “SEALED BID BLM LAND SALE,” November 9, 2010, and the identification number of the parcel “BLM SERIAL NUMBER NM-121548.” The bid envelope must also contain the completed BLM Certificate of Eligibility form, stating the name, mailing address, and phone number of the entity/person making the bid.

Sealed bids will be opened and recorded to determine the high bidder on November 9, 2010, at 10 a.m. MST, at the BLM Farmington Field Office. The highest qualifying bidder among the qualified bids received for the sale will be declared. This modified competitive sale allows the designated bidders the right to meet the high bid.

The designated bidders or their authorized representative must be present at the bid opening on November 9, 2010 at 10 a.m. MST. Should the designated bidders appoint a representative for this sale, they must submit, in writing, a notarized document identifying the level of capacity given to their authorized representative. This document must be signed by both parties. The designated bidders or their authorized representative will have the opportunity to meet and accept the high bid as the purchase price of the parcel or to refuse that offer. Should the designated bidders or their authorized representative refuse the offer, the high bid received through sealed bid will be declared the successful bid in accordance with regulations at 43 CFR 2711.3-2(c). Acceptance or rejection of any offer to purchase the parcel will be in accordance with the procedures set forth in 43 CFR 2711.3-1 (f) and (g) of this subpart.

All funds submitted with sealed bids will be returned to the unsuccessful bidders upon presentation of photo identification. The successful bidder may elect a refund of their $20,000 bid guarantee or apply the bid guarantee along with the required 20 percent bid deposit toward the purchase price. Failure to submit the bid deposit following a successful bid will result in forfeiture of the bid guarantee under 43 CFR 2711.3-1(d).

The successful bidder will be allowed 180 days from the date of the sale to submit the remainder of the full bid price in the form of a certified check, postal money order, bank draft, or cashier's check made payable to the Bureau of Land Management. Personal checks will not be accepted. Arrangements for electronic fund transfer to the BLM for the payment of the balance due on or before 180 days from the date of the sale, shall be made a minimum of 2 weeks prior to the payment date. Failure to submit the full bid price before the end of the 180th day following the sale date will result in the forfeiture of the 20 percent bid deposit to the BLM in accordance with 43 CFR 2711.3-1(d). If there are no acceptable bids, the parcel may remain available for sale on a continuing basis in accordance with the competitive sale procedures described in 43 CFR 2711.3-1 without further legal notice. If the parcel is not sold, it may also be offered for sale in a future Internet auction. Internet auction procedures are available at http://www.auctionrp.com. If unsold through the Internet auction, the parcel may be offered for sale in the future without additional legal notice.

Terms and Conditions: All minerals will be reserved to the United States. The conveyance document issued would contain the following numbered reservations, covenants, terms, and conditions:

1. Discretionary leasable and saleable mineral deposits on the land, if any, are reserved to the United States, its permittees, licensees, and lessees together with the right to prospect for, mine, and remove such minerals under applicable law and any regulations that the Secretary of the Interior may prescribe, together with all necessary access and exit rights;

2. A right-of-way thereon for ditches and canals constructed by authority of the United States pursuant to the Act of August 30, 1890 (26 Stat. 391; 43 U.S.C. 945);

3. The parcel is subject to valid existing rights. The parcel may also be subject to land-use applications received prior to publication of this notice if processing the application would have no adverse effect on the marketability of the title, or the federally approved FMV, of the parcel. Encumbrances of record, appearing in the BLM public files for the parcels proposed for sale, are available for review during business hours, 7:45 a.m. to 4:30 p.m. MST, Monday through Friday, at the BLM Farmington Field Office, except during federally recognized holidays. Subject to limitations prescribed by law and regulation, prior to patent issuance, a holder of any right-of-way within the parcel may be given the opportunity to amend the right-of-way for conversion to a new term, including one that would last in perpetuity, if applicable, or to an easement.

4. By accepting this patent, the patentee agrees to indemnify, defend and hold the United States harmless from any costs, damages, claims, causes of action, penalties, fines, liabilities, and judgments of any kind or nature arising from the past, present, and future acts or omissions of the patentees, its employees, agents, contractors, or lessees, or any third party, arising out of, or in connection with, the patentees use, occupancy, or operations on the patented real property. This indemnification and hold harmless agreement includes, but is not limited to, acts and omissions of the patentees, its employees, agents, contractors, or lessees, or third parties arising out of or in connection with the use and/or occupancy of the patented real property resulting in: (a) Violations of Federal, State, and local laws and regulations applicable to the real property; (b) judgments, claims or demands of any kind assessed against the United States; (c) costs, expenses, damages of any kind incurred by the United States; (d) other releases or threatened releases on, into or under land, property and other interests of the United States by solid or hazardous waste(s) and/or hazardous substances(s), as defined by Federal or State environmental laws; (e) Other activities by which solid or hazardous substances or wastes, as defined by Federal and State environmental laws were generated, released, stored, used or otherwise disposed of on the patented real property, and any cleanup response, remedial action, or other actions related in any manner to said solid or hazardous substances or wastes; or (f) Natural resource damages as defined by Federal and State law. This covenant shall be construed as running with the patented real property, and may be enforced by the United States in a court of competent jurisdiction; and

5. Pursuant to the requirements established by Section 120(h) of the Comprehensive Environmental Response, Compensation and Liability Act, 42 U.S.C. 9620(h) (CERCLA), as amended by the Superfund Amendments and Reauthorization Act of 1988 (100 Stat. 1670), notice is hereby given that the above-described land has been examined and no evidence was found to indicate that any hazardous substances have been stored for 1 year or more, nor have any hazardous substances been disposed of or released on the subject property.

The parcel is subject to reservations for roads, public utilities, and flood control purposes in accordance with the local governing entities' transportation plans. No warranty of any kind, express or implied, is given by the United States as to title, whether, or to what extent, the land may be developed, its physical condition, future uses, or any other circumstance or condition. The conveyance of the parcel will not be on a contingency basis.

On publication of this notice and until completion of the sale, the BLM is no longer accepting land use applications affecting the identified land, except applications for the amendment of previously filed right-of-way applications or existing authorizations to increase the term of the grant in accordance with 43 CFR 2807.15 and 2886.15. Land use applications may be considered after completion of the sale process for this parcel if the parcel is not sold.

The BLM will notify valid existing right-of-way holders of their ability to convert their compliant rights-of-way to perpetual rights-of-way or easements. Each valid holder will be notified, in writing, of their rights and then must apply for the conversion of their current authorization before the patent is issued.

Federal law requires that all bidders must be United States citizens 18 years old or older, or in the case of corporations, be subject to the laws of any State of the United States. Proof of these requirements must accompany the bid. Unless other satisfactory arrangements are approved in advance by the BLM authorized officer, conveyance of title shall be through the use of escrow. Designation of the escrow agent shall be through mutual agreement between the BLM and the prospective patentee, and costs of escrow shall be borne by the prospective patentee.

Requests for all escrow instructions must be received by the BLM Farmington Field Office prior to 30 days before the bidder's scheduled closing date. There are no exceptions.

Within 30 days of the sale, the BLM will, in writing, either accept or reject all bids received. Pursuant to 43 CFR 2711.3-1, a bid is the bidder's offer to the BLM to purchase the parcel. No contractual or other rights against the United States may accrue until the BLM officially accepts the offer to purchase, and the full bid price is submitted by the 180th day following the sale.

To change the name on the bidder statement, high bidders must notify the BLM Farmington Field Office, in writing, and submit a new bidder statement, which is available at the BLM Farmington Field Office, and must be completed by the intended patentee.

The BLM will not sign any documents related to any Internal Revenue Service (IRS) 1031 exchange transactions. The timing for completion of any IRS Section 1031 exchange is the bidder's responsibility in accordance with IRS regulations. The BLM will not be a party to any IRS Section 1031 exchange.

In order to determine the FMV, certain assumptions may have been made about the attributes and limitations of the land and potential effects of local regulations and policies on potential future land uses. Through publication of this notice, the BLM advises that these assumptions may not be endorsed or approved by units of local government. It is the buyer's responsibility to be aware of all applicable Federal, State, and local government laws, regulations, and policies that may affect the subject lands, including any required dedication of lands for public uses. It is the buyer's responsibility to be aware of existing or projected use of nearby properties. When conveyed out of Federal ownership, the land will be subject to any applicable laws, regulations, and policies of the applicable local government for proposed future uses. It will be the responsibility of the purchaser to be aware through due diligence of those laws, regulations, and policies, and to seek any required local approvals for future uses. Buyers should also make themselves aware of any Federal or State law or regulation that may impact the future use of the property. Any land lacking access from a public road or highway will be conveyed as such, and future access acquisition will be the responsibility of the buyer. The parcel proposed for sale was analyzed in the BLM Farmington Resource Management Plan and Final Environmental Impact Statement dated March 2003. This was approved as the Resource Management Plan in the Record of Decision signed September 29, 2003, which is available for review at the BLM Farmington Field Office. The parcel identified in this Notice was analyzed in an Environmental Assessment (EA) for the sale.

Information concerning the sale, appraisals, reservations, sale procedures and conditions, CERCLA, maps delineating the individual sale parcel, the FMV of the parcel, EA, and other environmental documents are available for review at the Farmington Field Office, or by contacting Albert Gonzales at (505) 599-6334.

Public comments: The parcel of land will not be offered for sale before 60 days have elapsed after the publication of this notice. For a period until October 25, 2010, interested parties may submit written comments to the BLM Farmington Field Office. Only written comments submitted by postal service or other delivery service will be considered as properly filed. Electronic mail, facsimile, or telephone comments will not be considered as properly filed.

Before including your address, phone number, e-mail address, or other personal identifying information in your comment, you should be aware that your entire comment—including your personal identifying information—may be made publicly available at any time. While you can ask us in your comment to withhold your personal identifying information from public review, we cannot guarantee that we will be able to do so.

Any adverse comments regarding the proposed sale will be reviewed by the BLM New Mexico State Director, who may sustain, vacate, or modify this realty action. In the absence of any adverse comments, this realty action will become the final determination of the Department of the Interior.

(Authority: 43 CFR 2711)

Debby Lucero,
Acting Deputy State Director, Division of Lands and Resources.

[FR Doc. 2010-22610 Filed 9-9-10; 8:45 am]

BILLING CODE 4310-VB-P